DEPARTMENT OF STATE

[Delegation of Authority DA1-343]

Re-Delegation by the Under Secretary for Management to the Comptroller of Authorities Relating to Administration of the Federal Advisory Committee Act

By virtue of the authority vested in me by the Secretary of State, including by Delegation of Authority No. 198, dated September 16, 1992, and the Federal Advisory Committee Act (FACA), Public Law 92-463 (5 U.S.C. Appendix), and to the extent authorized by law, I hereby re-delegate to the Comptroller, the following functions and authorities:

(1) Committee management, in accordance with Section 8 of FACA; and

(2) The authority to make a written determination to close a meeting of an advisory committee to the public, pursuant to Section 10(d) of FACA.

The Comptroller may re-delegate the function of Committee Management Officer. Any act, executive order, regulation or procedure subject to, or affected by, this delegation shall be deemed to be such act, executive order, regulation or procedure as amended from time to time.

Notwithstanding this delegation of authority, the Secretary, the Deputy Secretary, the Deputy Secretary for Management and Resources, and the Under Secretary for Management may at any time exercise any authority or function delegated by this delegation of authority.

Delegations of Authority Nos. 157-1 and 157-2 are revoked, except to the extent that they revoke other delegations of authority. This document shall be published in the Federal Register.

Dated: August 3, 2012.
Patrick F. Kennedy,
Under Secretary of State for Management.

[FR Doc. 2012-20419 Filed 8-17-12; 8:45 am]

BILLING CODE 4710-35-P